DEPARTMENT OF TRANSPORTATION

Federal Aviation Administration

14 CFR Part 71

[Docket No. FAA-2019-0341; Airspace Docket No. 18-ANM-4]

RIN 2120-AA66

Amendment of Class E Airspace; Gunnison, CO

AGENCY: Federal Aviation Administration (FAA), DOT.

ACTION: Final rule.

SUMMARY: This action amends Class E airspace at Gunnison-Crested Butte Regional Airport, Gunnison, CO. The action increases the circular radius of the Class E airspace designated as a surface area and adds an extension to the west of the airport. Also, this action amends the Class E airspace by adding an airspace area, designated as an extension to a Class D or Class E surface area, to the southwest of the airport. Additionally, this action amends the Class E airspace extending upward from 700 feet above the surface by significantly reducing the area around the airport, except to the west and southwest of the airport. Furthermore, this action amends the Class E airspace extending upward from 1,200 feet above the surface by removing this area. This area is wholly contained within the Denver Class E6 en route airspace area and duplication is not necessary. Lastly, this action makes several administrative corrections to the airspace legal descriptions for the airport.

DATES: Effective 0901 UTC, May 21, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Matthew Van Der Wal, Federal Aviation Administration, Western Service Center, Operations Support Group, 2200 S 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend Class E airspace at Gunnison-Crested Butte Regional Airport, Gunnison, CO, to ensure the safety and management of Instrument Flight Rules (IFR) operations at the airport.

History

The FAA published a notice of proposed rulemaking in the Federal Register (84 FR 68381; December 16, 2019) for Docket No. FAA-2019-0341 to amend Class E airspace at Gunnison-Crested Butte Regional Airport, Gunnison, CO. Interested parties were invited to participate in this rulemaking effort by submitting written comments on the proposal to the FAA. One comment was received.

The commenter stated “that the Final Rule should state that the Class E Surface Area hours of operation are continuous”. This topic was addressed in the NPRM and the Final Rule removes the part time language from the legal description.

Class E2, E4 and E5 airspace designations are published in paragraph 6002, 6004 and 6005, respectively, of FAA Order 7400.11D, dated August 8, 2019, and effective September 15, 2019, which is incorporated by reference in 14 CFR 71.1. The Class E airspace designation listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This amendment to Title 14 Code of Federal Regulations (14 CFR) part 71 amends Class E airspace at the Gunnison-Crested Butte Regional Airport, Gunnison, CO. The action amends the Class E airspace, designated as a surface area, by increasing the circular radius and adds an extension to the west of the airport. The airspace area is defined as follows: That airspace extending upward from the surface within a 4.8-mile radius of the airport and within 1 mile each side of the 256° bearing from the airport, extending from the 4.8-mile radius to 5.7 miles west of the Gunnison-Crested Butte Regional Airport.

Also, this action amends Class E airspace by adding an area designated an extension to Class D and Class E2 surface areas. This airspace area is defined as follows: That airspace extending upward from the surface within 1.4 miles each side of the 225° bearing, extending from the 4.8-mile radius to 14.1 miles southwest of the Gunnison-Crested Butte Regional Airport.

Additionally, this action amends the Class E airspace extending upward from 700 feet above the surface. The action removes most of the area extending upward from 700 feet above the surface, from the northwest of the airport clockwise to the south of the airport. A small area would remain east of the airport and two larger areas would remain to the southwest and west of the airport. This airspace area is defined as follows: That airspace extending upward from 700 feet above the surface, extending from the 4.8-mile radius to a 7-mile radius along the 052° bearing from the airport, clockwise to the 107° bearing from the airport, thence along the 107° bearing back to the 4.8-mile radius, and within 2.5 miles each side of the 254° bearing from the airport, extending from the 4.8-mile radius to 9.6 miles west of the airport, and within 8.1 miles north and 3.9 miles south of the 225° bearing from the airport, extending from 7.1 miles to 23.1 miles southwest of the Gunnison-Crested Butte Regional Airport.

Furthermore, this action removes the Class E airspace extending upward from 1,200 feet above the surface. This airspace area is wholly contained within the Denver Class E6 en route airspace area and duplication is not necessary.

Lastly, the action makes several administrative corrections to the airspaces legal descriptions. The geographic coordinates need to be updated to (lat. 38°32′04″ N, long. 106°55′54″ W) to match the FAA's aeronautical database. The Class E surface airspace is full time; the following two sentences do not accurately represent the time of use for this airspace area are removed from the legal description: “This Class E airspace area is effective during specific dates and times established in advance by a Notice to Airmen. The effective date and time will thereafter be continuously published in the Airport/Facility Directory.”

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6002 Class E Airspace Areas Designated as a Surface Area.

* * * * *

ANM CO E2 Gunnison, CO [AMENDED]

Gunnison-Crested Butte Regional Airport, CO

(Lat. 38°32′04″ N, long. 106°55′54″ W)

That airspace extending upward from the surface within a 4.8-mile radius of the airport, and within 1 mile each side of the 256° bearing from the airport, extending from the 4.8-mile radius to 5.7 miles west of the Gunnison-Crested Butte Regional Airport.

Paragraph 6004 Class E Airspace Areas Designated as an Extension to a Class D or Class E Surface Area.

* * * * *

ANM CO E4 Gunnison, CO [NEW]

Gunnison-Crested Butte Regional Airport, CO

(Lat. 38°32′04″ N, long. 106°55′54″ W)

That airspace extending upward from the surface within 1.4 miles each side of the 225° bearing from the airport, extending from the 4.8-mile radius to 14.1 miles southwest of the Gunnison-Crested Butte Regional Airport.

Paragraph 6005 Class E Airspace Areas Extending Upward From 700 Feet or More Above the Surface of the Earth.

* * * * *

ANM CO E5 Gunnison, CO [AMENDED]

Gunnison-Crested Butte Regional Airport, CO

(Lat. 38°32′04″ N, long. 106°55′54″ W)

That airspace extending upward from 700 feet above the surface extending from the 4.8-mile radius to a 7-mile radius along the 052° bearing from the airport, clockwise to the 107° bearing from the airport, thence along the 107° bearing back to the 4.8-mile radius, and within 2.5 each side of the 254° bearing from the airport, extending from the 4.8-mile radius to 9.6 miles west of the airport, and within 8.1 miles north and 3.9 miles south of the 225° bearing from the airport, extending from 7.1 miles to 23.1 miles southwest of the Gunnison-Crested Butte Regional Airport.

Issued in Seattle, Washington, on February 26, 2020.
Shawn M. Kozica,
Group Manager, Western Service Center, Operations Support Group.

[FR Doc. 2020-04259 Filed 3-2-20; 8:45 am]

BILLING CODE 4910-13-P